DEPARTMENT OF ENERGY

Federal Energy Regulatory Commission

Combined Notice of Filings #1

Take notice that the Commission received the following exempt wholesale generator filings:

Docket Numbers: EG13-7-000.

Applicants: Black Bear SO, LLC.

Description: Notice of Self-Certification of Exempt Wholesale Generator Status of Black Bear SO, LLC.

Filed Date: 11/5/12.

Accession Number: 20121105-5071.

Comments Due: 5 p.m. ET 11/26/12.

Docket Numbers: EG13-8-000.

Applicants: Black Bear Development Holdings, LLC.

Description: Notice of Self-Certification of Exempt Wholesale Generator Status of Black Bear Development Holdings, LLC.

Filed Date: 11/5/12.

Accession Number: 20121105-5073.

Comments Due: 5 p.m. ET 11/26/12.

Take notice that the Commission received the following electric rate filings:

Docket Numbers: ER12-2055-002.

Applicants: San Gorgonio Farms, Inc.

Description: San Gorgonio Farms, Inc. submits tariff filing per 35: Updated Market-Based Tariff Revised Limitations and Exemptions Section to be effective 8/15/2012.

Filed Date: 11/5/12.

Accession Number: 20121105-5083.

Comments Due: 5 p.m. ET 11/26/12.

Docket Numbers: ER13-313-000.

Applicants: Southern California Edison Company.

Description: Amended SGIA & DSA to Cascade Solar Project, Cascade Solar, LLC to be effective 11/6/2012.

Filed Date: 11/5/12.

Accession Number: 20121105-5041.

Comments Due: 5 p.m. ET 11/26/12.

Docket Numbers: ER13-314-000.

Applicants: PJM Interconnection, L.L.C.

Description: PJM Interconnection, L.L.C. submits tariff filing per 35.13(a)(2)(iii: Queue Position #W4-001A_AT9 ? Original SA No. 3407 to be effective 10/4/2012.

Filed Date: 11/5/12.

Accession Number: 20121105-5052.

Comments Due: 5 p.m. ET 11/26/12.

Docket Numbers: ER13-315-000.

Applicants: Startrans IO, LLC.

Description: Startrans IO, LLC submits tariff filing per 35.13(a)(2)(iii: 2013 Update to TRBAA in Appendix I to be effective 1/1/2013.

Filed Date: 11/5/12.

Accession Number: 20121105-5060.

Comments Due: 5 p.m. ET 11/26/12.

Docket Numbers: ER13-317-000.

Applicants: ISO New England Inc.

Description: ISO New England Inc. submits Resource Termination Filing.

Filed Date: 11/5/12.

Accession Number: 20121105-5094.

Comments Due: 5 p.m. ET 11/26/12.

Docket Numbers: ER13-318-000.

Applicants: Entergy Arkansas, Inc.

Description: Entergy Arkansas, Inc. submits tariff filing per 35.13(a)(2)(iii: Service Agreement No. 668 to be effective 1/1/2013.

Filed Date: 11/5/12.

Accession Number: 20121105-5103.

Comments Due: 5 p.m. ET 11/26/12.

Docket Numbers: ER13-319-000.

Applicants: Entergy Arkansas, Inc.

Description: Entergy Arkansas, Inc. submits tariff filing per 35.13(a)(2)(iii: Oxy-SPO-ED DTOA to be effective 11/1/2012.

Filed Date: 11/5/12.

Accession Number: 20121105-5129.

Comments Due: 5 p.m. ET 11/26/12.

Take notice that the Commission received the following electric securities filings:

Docket Numbers: ES13-8-000.

Applicants: Northern Pass Transmission LLC.

Description: Northern Pass Transmission LLC submits Application for Short-Term and Long-Term Debt Authority under ES13-8.

Filed Date: 11/5/12.

Accession Number: 20121105-5092.

Comments Due: 5 p.m. ET 11/26/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2012.
Nathaniel J. Davis, Sr.,
Deputy Secretary.

[FR Doc. 2012-27614 Filed 11-13-12; 8:45 am]

BILLING CODE 6717-01-P